DEPARTMENT OF HEALTH AND HUMAN SERVICES

Administration for Children and Families

Submission for OMB Review; Identifying and Addressing Human Trafficking in Child Welfare Agencies (New Collection)

AGENCY: Office of Planning, Research, and Evaluation, Administration for Children and Families, HHS.

ACTION: Request for public comment.

SUMMARY: The Administration for Children and Families (ACF) within the U.S. Department of Health and Human Services (HHS) is proposing to collect data on child welfare agencies' efforts to identify human trafficking and subsequent service delivery. The goal of the study is to better understand child welfare practice in screening for human trafficking, and the degree to which screening is related to subsequent referrals for, access to, and delivery of specialized services for children identified as trafficking victims or at high risk of trafficking.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: ACF is proposing data collection as part of the study, “Identifying and Addressing Human Trafficking in Child Welfare Agencies,” exploring child welfare practice in screening for human trafficking, and the relationship between screening and specialized services.

Primary data collection includes semi-structured qualitative interviews with state and local human trafficking coordinators (or comparable staff members with greatest knowledge about human trafficking efforts); small group interviews with casework supervisors; and case narrative interviews with caseworkers.

The interviews will be conducted by telephone (25 state agencies) and in-person (up to 8 local agencies or offices). Interview questions will be focused on how agencies select, train on, and implement screening for human trafficking, the details of screening protocols, and variations in implementation. Questions will also address the availability of specialized services for children identified as trafficking victims or at high risk of trafficking, agency steps based on positive or suspected screening, and the process for initiating specialized services.

Respondents: State and local human trafficking coordinators, casework supervisors, and caseworkers.

Annual Burden Estimates

Data collection is expected to take place over two years.

Instrument | Number of respondents (total over request period) | Number of responses per respondent (total over request period) | Average burden per response (in hours) | Total burden (in hours) | Annual burden (in hours)
State Human Trafficking Coordinator Telephone Interview Guide | 25 | 1 | 1.5 | 37.5 | 19
Local Human Trafficking Coordinator Interview Guide | 8 | 1 | 1.5 | 12 | 6
Casework Supervisor Group Interview Guide | 40 | 1 | 1.5 | 60 | 30
Caseworker Case Narrative Interview Guide | 48 | 1 | 1 | 48 | 24

Estimated Total Annual Burden Hours: 79.

Authority: Section 476(a)(1-2) (42 U.S.C. 676) of the Social Security Act Part E—Federal Payments for Foster Care and Adoption Assistance.

John M. Sweet Jr.,
ACF/OPRE Certifying Officer.

[FR Doc. 2020-23160 Filed 10-19-20; 8:45 am]

BILLING CODE 4184-25-P